DEPARTMENT OF LABOR

Office of Workers' Compensation Programs

Advisory Board on Toxic Substances and Worker Health; Notice of Advisory Board Establishment

AGENCY: Office of Workers' Compensation Programs, Labor.

ACTION: Advisory Board on Toxic Substances and Worker Health for Part E of the Energy Employees Occupational Illness Compensation Program Act (EEOICPA); Notice of Advisory Board Establishment.

SUMMARY: In accordance with section 3687 of Pub. L. 106-398, which was added by section 3141(a) of the National Defense Authorization Act (NDAA) of 2015, Executive Order 13699 (June 26, 2015), and the provisions of the Federal Advisory Committee Act and its implementing regulations issued by the General Services Administration (GSA), the Advisory Board on Toxic Substances and Worker Health is established.

The Advisory Board on Toxic Substances and Worker Health (Board) shall advise the Secretary of Labor (Secretary) with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Board, when necessary, coordinates exchanges of data and findings with the Department of Health and Human Services' Advisory Board on Radiation and Worker Health.

Membership of the Board shall consist of 12-15 members, to be appointed by the Secretary. A Chair of the Board will be appointed by the Secretary from among the Board members. Pub. L. 106-398, Section 3687(a)(3). Pursuant to Section 3687(a)(2), membership must be balanced and include members from the scientific, medical and claimant communities. The Department of Labor intends that one-third of the membership will be from the scientific community, one-third from the medical community, and one-third from the claimant community. The members serve two- or three-year staggered terms. At the discretion of the Secretary, members may be appointed to successive terms or removed at any time. The Board will meet no less than twice per year, except the Board may meet only once in 2015.

The Board shall report to the Secretary of Labor. As specified in Section 3687(i), the Board shall terminate five (5) years after the date of the enactment of the NDAA, which was December 19, 2014. Thus, the Board shall terminate on December 19, 2019.

FOR FURTHER INFORMATION CONTACT: You may contact Sam Shellenberger, Designated Federal Officer, Advisory Board on Toxic Substances and Worker Health, Office of Workers' Compensation Programs, at shellenberger.sam@dol.gov, or Carrie Rhoads, Office of Workers' Compensation Programs, at rhoads.carrie@dol.gov, U.S. Department of Labor, 200 Constitution Avenue NW., Suite S-3524, Washington, DC 20210, telephone (202) 693-0036.

This is not a toll-free number.

Signed at Washington, DC, this 15th day of July, 2015.
Leonard J. Howie III,
Director, Office of Workers' Compensation Programs.

[FR Doc. 2015-17877 Filed 7-20-15; 8:45 am]

BILLING CODE 4510-CH-P